FEDERAL COMMUNICATIONS COMMISSION

47 CFR Part 73

[DA 02-2309; MM Docket No. 02-62; RM-10397]

Radio Broadcasting Services; De Funiak Springs and Valparaiso, FL

AGENCY: Federal Communications Commission.

ACTION: Final rule.

SUMMARY: In response to a Notice of Proposed Rule Making, 67 FR 16706 (April 18, 2002), this document reallots Channel 276C2 from De Funiak Springs, Florida to Valparaiso, Florida and provides Valparaiso with its first local FM transmission service. The coordinates for Channel 276C2 at Valparaiso are 30-30-53 North Latitude and 86-13-12 West Longitude.

DATES: Effective November 12, 2002.

FOR FURTHER INFORMATION CONTACT: R. Barthen Gorman, Media Bureau, (202) 418-2180.

SUPPLEMENTARY INFORMATION: This is a synopsis of the Commission's Report and Order, MM Docket No. 02-62, adopted September 11, 2002, and released September 27, 2002. The full text of this Commission decision is available for inspection and copying during normal business hours in the FCC's Reference Information Center at Portals II, CY-A257, 445 12th Street, SW., Washington, DC. This document may also be purchased from the Commission's duplicating contractors, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under Florida, is amended by adding Valparaiso, Channel 276C2, and removing De Funiak Springs, Channel 276C2.

Federal Communications Commission.
John A. Karousos,
Assistant Chief, Audio Division, Media Bureau.

[FR Doc. 02-26359 Filed 10-16-02; 8:45 am]

BILLING CODE 6712-01-P